DEPARTMENT OF COMMERCE

International Trade Administration

[A-552-801]

Certain Frozen Fish Fillets From the Socialist Republic of Vietnam: Extension of Time Limit for Preliminary Results of the Seventh Antidumping Duty New Shipper Reviews

AGENCY: Import Administration, International Trade Administration, Department of Commerce

DATES: Effective Date: March 9, 2011.

FOR FURTHER INFORMATION CONTACT: Alan Ray, AD/CVD Operations, Office 9, Import Administration, International Trade Administration, U.S. Department of Commerce, 14th Street and Constitution Avenue, NW., Washington, DC 20230; telephone (202) 482-5403.

Background

On January 25, 2011, the Department of Commerce (“Department”) published in the Federal Register the Preliminary Results of the seventh new shipper reviews of certain frozen fish fillets from the Socialist Republic of Vietnam covering the period August 1, 2009, through February 15, 2010.¹ Subsequent to the publication of the Preliminary Results, the Department extended the deadlines for submission of surrogate values, case briefs, and rebuttal comments.² The final results are currently due no later than April 14, 2011.

¹ See Certain Frozen Fish Fillets From the Socialist Republic of Vietnam: Preliminary Results of Antidumping Duty New Shipper Reviews, 76 FR 4292 (January 25, 2011) (“Preliminary Results”).

² See Letter from Alex Villanueva, Program Manager, Office 9, to Interested Parties: Extending Surrogate Value Submission & Briefing Schedule for New Shipper Reviews of Certain Frozen Fish Fillets from the Socialist Republic of Vietnam (February 10, 2011).

Extension of Time Limit for the Final Results

Section 751(a)(2)(B)(iv) of the Tariff Act of 1930, as amended (“Act”), and 19 CFR 351.214(i)(1) require the Department to issue the final results in a new shipper review of an antidumping duty order 90 days after the date on which the preliminary results are issued. The Department may, however, extend the deadline for completion of the final results of a new shipper review to 150 days if it determines that the case is extraordinarily complicated. See section 751(a)(2)(B)(iv) of the Act and 19 CFR 351.214(i)(2).

The Department finds this case to be extraordinarily complicated because there is voluminous new material on the record regarding the surrogate value of whole fish that has not yet been considered in a completed review. The Department will need more time to analyze the data. Therefore, in accordance with section 751(a)(2)(B)(iv) of the Act, we are extending the time for the completion of the final results of this review by 60 days to June 13, 2011.

We are issuing and publishing this notice in accordance with sections 751(a)(1) and 777(i)(1) of the Act.

Dated: March 3, 2011.
Gary Taverman,
Acting Deputy Assistant Secretary for Antidumping and Countervailing Duty Operations.

[FR Doc. 2011-5385 Filed 3-8-11; 8:45 am]

BILLING CODE 3510-DS-P